DEPARTMENT OF THE INTERIOR

National Park Service

REVISION—Notice of Inventory Completion for Native American Human Remains and Associated Funerary Objects in the Possession of the 611th Air Support Group, United States Air Force, Elmendorf Air Force Base, AK

AGENCY: National Park Service.

ACTION: Notice.

Notice is hereby given in accordance with provisions of the Native American Graves Protection and Repatriation Act (NAGPRA), 43 CFR 10.9, of the completion of an inventory of human remains and associated funerary objects in the possession of 611th Air Support Group, United States Air Force, Elmendorf Air Force Base, AK.

A detailed assessment of the human remains was made by the W.H. Over Museum, South Dakota State Archeological Research Center, and 611th Air Support Group, USAF professional staff in consultation with representatives of the Aleut Corporation, and the Aleutian Pribilof Islands Association, Inc.

In 1943, human remains representing one individual were uncovered during a legally authorized runway construction project on Shemya Island, AK conducted by Mr. C.B. Kimbrough, a contracted civil engineer with the Baker Engineering Company, Rochester, PA. In 1944, these human remains were donated by Mr. Kinbrough to the Dakota Museum, University of South Dakota, Vermillion, SD (now known as the W.H. Over Museum). No known individual was identified. The 32 associated funerary objects include stone projectile points and animal bone tools related to sea and land hunting and fishing.

Based on the geographic location and material culture, this individual has been identified as Native American, most likely affiliated with the Aleut culture. The determination of cultural affiliation has been based upon the relative geographic isolation of Shemya Island, archeological evidence from the Shemya Island region, past and present Aleut oral tradition, historical evidence, and expert anthropological opinion. These forms of evidence all indicate that Aleut people were the sole pre-contact (pre-1741 A.D.) occupants of Shemya Island.

Based on the above mentioned information, officials of the 611th Air Force Group, USAF have determined that, pursuant to 43 CFR 10.2 (d)(1), the human remains listed above represent the physical remains of one individual of Native American ancestry. Officials of the 611th Air Force Group, USAF have also determined that, pursuant to 43 CFR 10.2 (d)(2), the 32 objects listed above are reasonably believed to have been placed with or near individual human remains at the time of death or later as part of the death rite or ceremony. Lastly, officials of the 611th Air Force Group, USAF have determined that, pursuant to 43 CFR 10.2 (e), there is a relationship of shared group identity which can be reasonably traced between these Native American human remains and associated funerary objects and the Aleut Corporation.

This notice has been sent to officials of the Aleut Corporation, and the Aleutian Pribilof Islands Association, Inc. Representatives of any other Indian tribe that believes itself to be culturally affiliated with these human remains and associated funerary objects should contact Captain Christopher A. Pleiman, Cultural Resources Manager, 611th Air Support Group, U.S. Air Force, 6900 9th Street, Ste. 360, Elmendorf AFB, AK 99506-2270; telephone: (907) 552-7442, before June 22, 2000. Repatriation of the human remains and associated funerary objects to the Aleut Corporation may begin after that date if no additional claimants come forward.

Dated: May 8, 2000.
Francis P. McManamon,
Departmental Consulting Archeologist, Manager, Archeology and Ethnography Program.

[FR Doc. 00-12848 Filed 5-22-00; 8:45 am]

BILLING CODE 4310-70-F